DEPARTMENT OF COMMERCE

National Oceanic and Atmospheric Administration

RIN 0648-XF827

Endangered Species; File No. 21260

AGENCY: National Marine Fisheries Service (NMFS), National Oceanic and Atmospheric Administration (NOAA), Commerce.

ACTION: Notice; receipt of application.

SUMMARY: Notice is hereby given that NMFS Pacific Islands Fisheries Science Center [Responsible Party: Michael Seki, Ph.D.], 1845 Wasp Boulevard, Honolulu, Hawaii, 96818, has applied in due form for a permit to take green (Chelonia mydas), hawksbill (Eretmochelys imbricata), leatherback (Dermochelys coriacea), loggerhead (Caretta caretta), and olive ridley (Lepidochelys olivacea) sea turtles for purposes of scientific research.

DATES: Written, telefaxed, or email comments must be received on or before January 2, 2018.

ADDRESSES: The application and related documents are available for review by selecting “Records Open for Public Comment” from the “Features” box on the Applications and Permits for Protected Species (APPS) home page, https://apps.nmfs.noaa.gov, and then selecting File No. 21260 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The Pacific Islands Fisheries Science Center proposes to continue long-term monitoring of sea turtles in the Pacific Islands Region to understand population status, abundance, and trends as well as age at maturity, growth rates, and foraging and movement ecology of green, hawksbill, leatherback, loggerhead, and olive ridley sea turtles. Annually, up to 250 green, 150 hawksbill, 100 loggerhead, 100 leatherback, and 100 olive ridley sea turtles would be captured for morphometric data, tagging (flipper and passive integrated transponder), biological samples, and instrument attachment (acoustic, satellite, and/or archival) prior to release. The permit would be valid for up to ten years from the date of issuance.

Dated: November 27, 2017.
Julia Harrison,
Chief, Permits and Conservation Division, Office of Protected Resources, National Marine Fisheries Service.

[FR Doc. 2017-25794 Filed 11-29-17; 8:45 am]

BILLING CODE 3510-22-P